DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Query Tool for Accurate Protein Identification

Rodney L. Levine (NHLBI)

U.S. Patent Application No. 10/446,865 filed 29 May 2003 (DHHS Reference No. E-306-2002/0-US-01)

Licensing Contact: Michael Shmilovich; 301/435-5019; shmilovm@mail.nih.gov.

PHS seeks a commercial developer for the following software database query tool: A data-mining tool (software based query generator) that provides a script that identifies an isolated protein by using physical properties of the protein and submitting the query into a protein database (e.g., SWISS-PROT). The inventors identified that by combining an accurate determination of the ratio of at least one amino acid per molecule and at least one physical parameter of the protein; an accurate and unique match can be made by the query results. Parameters include the ratios of amino acids to others (e.g., C/F, W/C, C/Y etc.), the molecular weight, the ratio of positively to negatively charged moieties, and/or the isoelectric point.

Bromotyrosine-Derived Inhibitors of Mycothiol-S-Conjugate Amidase

Carole A. Bewley et al. (NIDDK)

U.S. Provisional Application No. 60/395,219 filed 10 Jul 2002 (DHHS Reference No. E-196-2002/0-US-01); PCT Application No. PCT/US03/21456 filed 09 Jul 2003, which published as WO 04/004659 on 15 Jan 2004 (DHHS Reference No. E-196-2002/0-PCT-02)

Licensing Contact: Michael Ambrose; 301/594-6565; ambrosem@mail.nih.gov.

Mycobacterium tuberculosis has reemerged as a leading cause of death by an infectious agent, especially among populations that are immunocompromised. With this increase in the rate of infection there has also been an increase in the number of drug resistant strains, making treatment of such infections more difficult. As such, the development of new antituberculars with novel modes of action is paramount in the fight against such infections.

The current invention uses the finding of two mycothiol-related amidases that are unique to actinomycetes and thus share no homology to eukaryotic enzymes thus reducing potential side effects for new therapeutics. These amidases are novel targets for new therapeutics and classes of antimycobacterials. This invention describes a series of synthetic bromotyrosine-containing analogs that exhibit amidase inhibition and thus have potential for therapeutic development.

This research has been described, in part, in: GM Nicholas et al., Bioorg. Med. Chem. Lett. (2002) 12:2487-2490; B Fetterolf and CA Bewley, Bioorg. Med. Chem. Lett. (Submitted, March 26, 2004).

Radio Frequency Cauterization Biopsy

Bradford J. Wood and Christan Pavlovich (CC)

U.S. Patent Application No. 10/274,074 filed 17 Oct 2002 (DHHS Reference No. E-207-2001/1-US-02)

Licensing Contact: Michael Shmilovich; 301/435-5019; shmilovm@mail.nih.gov.

The invention is a method and apparatus for using radio frequency (RF) energy to cauterize the needle track after percutaneous image-guided needle biopsy. The invention is designed to limit the risks of bleeding and needle track seeding that are inherent risks of any needle biopsy. The device uses a coaxial biopsy arrangement with the outer needle coated with a non-conducting polymer that insulates the needle shaft and the tissue immediately in contact with the shaft. As the needle is pulled back from the organ or tumor target, RF energy is applied to an exposed end portion of the probe, causing cauterization and coagulation of the tissue immediately adjacent to the needle track. Modular insertions could plug the needle into any cauterization or radiofrequency generator. A variation on the device could be used to limit bleeding after catheter placement into organs, such as for nephrostomy, biliary drainage, or transhepatic islet cell transplantation.

Endoluminal Radiofrequency Cauterization System

Bradford J. Wood (CC)

U.S. Patent 6,676,657 issued 13 Jan 2004 (DHHS Reference No.E-244-2000/1-US-01)

Licensing Contact: Michael Shmilovich; 301/435-5019; shmilovm@mail.nih.gov.

The invention is a device for occluding the lumen of a hollow organ, vessel or aneurysm by delivering radio frequency energy to its inner wall. The apparatus uses specialized electrodes that contact the walls of the organ to substantially conform to the inner surface. RF energy is then applied to the electrode at any of a broad range of desired frequencies for selected times at power levels of from 20 to 200 watts. Delivery of RF energy may be regulated by monitoring temperature, tissue impedance or other parameters at or near the site of the electrode. A temperature sensor located near the electrode allows microprocessor-based control of the power delivered to the electrode site as a function of tissue temperature. The device has applications in therapeutic thrombosis of an aneurysm, stopping blood flow to a tumor or bleeding vessel, or reducing stricture or stenosis in, for example, a bronchus, esophagus, intestine segment or a blood vessel. The invention also may be useful in reducing stenosis in a coronary artery or to reduce a restenotic lesion from intimal hyperplasia that may occur after angioplasty.

Dated: April 4, 2004.
Steven M. Ferguson,
Director, Division of Technology Development and Transfer, Office of Technology Transfer, National Institutes of Health.

[FR Doc. 04-8268 Filed 4-12-04; 8:45 am]

BILLING CODE 4140-01-P